FEDERAL TRADE COMMISSION

Advisory Committee on Online Access and Security

AGENCY: Federal Trade Commission.

ACTION: Notice of meeting on February 4, 2000.

SUMMARY: Pursuant to Section 10(a)(2) of the Federal Advisory Committee Act, 5 U.S.C. App. § 10(a)(2), and 16 C.F.R. § 16.9(a), notice is hereby given that the Federal Trade Commission Advisory Committee on Online Access and Security will hold a meeting on Friday, February 4, 2000, from 9:00 a.m. to 1:30 p.m. in Room 432 in the headquarters of the Federal Trade Commission, 600 Pennsylvania Avenue, N.W., Washington, DC 20580. The meeting is open to the public and will include a period for public comment. The purpose of the Advisory Committee is to provide advice and recommendations to the Commission regarding implementation of certain fair information practices by domestic commercial Web sites—specifically, providing online consumers reasonable access to personal information collected from and about them, and maintaining adequate security for that information. Interested parties who wish to submit comments on the meeting agenda or questions for consideration by the Advisory Committee may file these documents before the meeting with the Secretary, Federal Trade Commission.

DATES: The Advisory Committee will meet on Friday, February 4, 2000, from 9:00 a.m. to 1:30 p.m.

ADDRESSES: The meeting will take place in Room 432, Federal Trade Commission, 600 Pennsylvania Avenue, N.W., Washington, D.C. 20580.

FOR FURTHER INFORMATION CONTACT: Laura Mazzarella, Division of Financial Practices, Federal Trade Commission, 600 Pennsylvania Avenue, N.W., Mail Stop 4429, Washington, DC 20580, telephone (202) 326-3424, email lmazzarella@ftc.gov; or Hannah Stires, Division of Financial Practices, Federal Trade Commission, 600 Pennsylvania Avenue, N.W., Mail Stop 4429, Washington, DC 20580, telephone (202) 326-3178, email hstires@ftc.gov.

SUPPLEMENTARY INFORMATION:

Authority: 15 U.S.C. 41 et seq.; 5 U.S.C. App. sections 1-15; 16 C.F.R. Part 16.

The first meeting of the Federal Trade Commission Advisory Committee on Online Access and Security will be held on Friday, February 4, 2000, in Room 432, Federal Trade Commission, 600 Pennsylvania Avenue, N.W., Washington, D.C. from 9:00 a.m. to 1:30 p.m.

The Advisory Committee will identify the costs and benefits, to both consumers and businesses, of implementing the fair information practices of access and security with respect to personal information collected for and about consumers online. The Advisory Committee will consider the parameters of reasonable access to personal information and adequate security and will present options for implementation of these information practices in a report to the Commission.

The tentative agenda for the first meeting is as follows:

1. Introduction and Opening Remarks

2. Administrative matters; designation of subcommittees on access and security

3. Preliminary discussion on “reasonable access”

4. Preliminary discussion on “adequate security”

5. Discussion on report to the Commission

6. Public Comment

7. Closing Remarks

The meeting is open to the public.

Submission of Documents

Parties interested in submitting comments concerning any matter to be considered at the meeting should send an original and two copies in advance of the meeting to the Secretary, Federal Trade Commission, Room H-159, 600 Pennsylvania Avenue, N.W., Washington, DC 20580. Comments and questions should be captioned “Advisory Committee on Online Access and Security—Comment, P004807.” To enable prompt review and public access, paper submissions should be accompanied by a version on diskette in ASCII, WordPerfect (please specify version) or Microsoft Word (please specify version) format. Diskettes should be labeled with the name of the submitter, the Advisory Committee caption, and the name and version of the word processing program used to create the document. Alternatively, comments may be submitted to the following email address: advisory committee @ftc.gov. All comments will be posted on the Commission's Web site atwww.ftc.gov.

By direction of the Commission.
Donald S. Clark,
Secretary of the Commission.

[FR Doc. 00-1468 Filed 1-19-00; 8:45 am]

BILLIING CODE 6750-01-P